DEPARTMENT OF ENERGY

Federal Energy Regulatory Commission

[Docket No. AD15-4-000]

Technical Conference on Environmental Regulations and Electric Reliability, Wholesale Electricity Markets, and Energy Infrastructure

Supplemental Notice of Technical Conferences

As announced in the Notice of Technical Conferences issued on December 9, 2014,¹ the Federal Energy Regulatory Commission (Commission) will hold a series of technical conferences to discuss implications of compliance approaches to the Clean Power Plan proposed rule, issued by the Environmental Protection Agency (EPA) on June 2, 2014.² The technical conferences will focus on issues related to electric reliability, wholesale electric markets and operations, and energy infrastructure. The Commission will hold a National Overview technical conference on February 19, 2015, from approximately 10:00 a.m. to 5:45 p.m. in the Commission Meeting Room at the Federal Energy Regulatory Commission, 888 First Street NE., Washington, DC 20426. This conference is free of charge and open to the public. The agenda for the National Overview technical conference is attached to this Supplemental Notice of Technical Conferences.

¹ Technical Conference on Environmental Regulations and Electric Reliability, Wholesale Electricity Markets, and Energy Infrastructure, Docket No. AD15-4-000, (Dec. 9, 2014) (Notice of Technical Conferences), available at http://www.ferc.gov/CalendarFiles/20141209165657-AD15-4-000TC.pdf.

² Carbon Pollution Emission Guidelines for Existing Stationary Sources: Electric Utility Generating Units, Federal Register, 79 FR 34,830 (2014) (Proposed Rule), available at http://www.gpo.gov/fdsys/pkg/FR-2014-06-18/pdf/2014-13725.pdf.

Following the National Overview technical conference, the Commission will hold three regional technical conferences on the following dates:

Western Region ³ | February 25, 2015 | Denver, CO.
Eastern Region ⁴ | March 11, 2015 | Washington, DC.
Central Region ⁵ | March 31, 2015 | St. Louis, MO.

The National Overview technical conference will be Commission-led. The regional technical conferences will be staff-led. Commission members may participate in the regional technical conferences. The Commission will issue subsequent notices detailing the list of speakers at the National Overview technical conference and the specific location, agenda, and topics for discussion at each regional technical conference.

³ For purposes of this conference, the Western Region includes all the areas with the Western Interconnection, including the California Independent System Operator (CAISO).

⁴ For purposes of this conference, the Eastern Region includes the following Commission-approved Order No. 1000 planning regions: ISO New England, Inc. (ISO-NE), PJM Interconnection, LLC (PJM), New York Independent System Operator (NYISO), Southeastern Regional Transmission Planning (SERTP), South Carolina Regional Transmission Planning (SCRTP), and Florida Reliability Coordinating Council (FRCC). This region also includes the Northern Maine Independent System Administrator (NMISA).

⁵ For purposes of this conference, the Central Region includes the following Commission-approved Order No. 1000 planning regions: Midcontinent Independent System Operator Inc. (MISO) and Southwest Power Pool (SPP). This region also includes the Electric Reliability Council of Texas (ERCOT).

Registration for the National Overview technical conference is available at https://www.ferc.gov/whats-new/registration/02-19-15-form.asp. Those interested in attending the National Overview conference are encouraged to register by close of business on February 13, 2015. The Commission will provide details on registration for the regional technical conferences in subsequent notices.

The Commission will post information on the technical conferences on the Calendar of Events on the Commission's Web site, http://www.ferc.gov, prior to the conferences. The National Overview technical conference will also be webcast and transcribed. The webcast of the National Overview technical conference will be available through a link on the Commission's Calendar of Events available at http://www.ferc.gov. The event within the Calendar of Events will contain a link to the webcast. The Capitol Connection provides technical support for webcasts and offers the option of listening to the meeting via phone-bridge for a fee. If you have any questions, visit http://www.CapitolConnection.org or call (703) 993-3100. Transcripts of the technical conference will be available for a fee from Ace-Federal Reporters, Inc. ((202) 347-3700 or 1 (800) 336-6646).

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For more information about the technical conferences, please contact:

Logistical Information

Sarah McKinley, Office of External Affairs, Federal Energy Regulatory Commission, 888 First Street NE., Washington, DC 20426, (202) 502-8368, sarah.mckinley@ferc.gov.

Legal Information

Alan Rukin, Federal Energy Regulatory Commission, 888 First Street NE., Washington, DC 20426, (202) 502-8502, alan.rukin@ferc.gov.

Technical Information

Matthew Jentgen, Federal Energy Regulatory Commission, 888 First Street NE., Washington, DC 20426, (202) 502-8725, matthew.jentgen@ferc.gov.

Technical Information

Michael Gildea, Federal Energy Regulatory Commission, 888 First Street NE., Washington, DC 20426, (202) 502-8420, michael.gildea@ferc.gov.

Dated: January 6, 2015.
Kimberly D. Bose,
Secretary.

[FR Doc. 2015-00248 Filed 1-9-15; 8:45 am]

BILLING CODE 6717-01-P